DEPARTMENT OF TRANSPORTATION

Federal Aviation Administration

14 CFR Part 71

[Docket No. FAA-2025-5136; Airspace Docket No. 25-AGL-18]

RIN 2120-AA66

Establishment and Amendment of Class E Airspace; South Bend, IN

AGENCY: Federal Aviation Administration (FAA), DOT.

ACTION: Final rule.

SUMMARY: This action establishes and amends the Class E airspace at South Bend, IN. The name and geographic coordinates of the South Bend International Airport, South Bend, IN, are also being updated to coincide with the FAA's aeronautical database. This action is the result of airspace reviews conducted due to the decommissioning of the Keeler very high frequency omnidirectional range (VOR) as part of the VOR Minimum Operational Network (MON) Program. It brings the airspace into compliance with FAA orders and supports instrument flight rule (IFR) procedures and operations.

DATES: Effective 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes and amends the Class E airspace at the affected airports to support IFR operations.

History

The FAA published an NPRM for Docket No. FAA-2025-5136 in the Federal Register (90 FR 55819; December 4, 2025) proposing to establish and amend the Class E airspace at South Bend, IN. Interested parties were invited to participate in this rulemaking effort by submitting written comments on the proposal to the FAA. No comments were received.

Incorporation by Reference

Class E airspace designations are published in paragraphs 6002, 6003, 6004, and 6005 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying the Class E surface airspace; establishing a Class E extension to Class C airspace; establishing a Class E extension to a Class E surface area; and modifying the Class E airspace extending upward from 700 ft. above the surface at South Bend, Indiana, due to airspace reviews conducted as part of the decommissioning of the Keeler VOR as part of the VOR MON Program.

For the South Bend International Airport, South Bend, IN, Class E surface area, this action: (1) updates the name of the airport from Michiana Regional Transportation Center Airport to South Bend International Airport and updates the geographic coordinates of the airport to coincide with the FAA's aeronautical database; (2) removes the city associated with the airport from the airspace legal description header to comply with changes to FAA Order JO 7400.2R, Procedures for Handling Airspace Matters; (3) adds the Chain-O-Lakes Airport to the airspace legal description header as it was previously omitted; and (4) updates the outdated term “Airport/Facility Directory” to “Chart Supplement.”

This action establishes a Class E extension to Class C airspace at South Bend International Airport extending upward from the surface within 2 miles each side of the 179° bearing from the airport extending from the 5-mile radius of the airport to 9.7 miles south of the airport.

This action establishes a Class E extension to a Class E surface area at South Bend International Airport extending upward from the surface within 2 miles each side of the 179° bearing from the airport extending from the 5-mile radius of the airport to 9.7 miles south of the airport.

For the South Bend International Airport Class E airspace extending upward from 700 ft. above the surface, this action: (1) decreases the radius from 8 miles to 7.5 miles; (2) amends the east extension to within 4 miles (decreased from 4.4 miles) south and 8 miles (increased from 7 miles) north of the 089° bearing from the South Bend INTL: RWY 27L-LOC (previously South Bend ILS Localizer East Course) extending from the 7.5-mile radius of the airport (previously South Bend Regional Airport) to 10 miles (decreased from 10.5 miles) east of the airport (previously Misha outer marker); (3) adds an extension within 2 miles each side of the 179° bearing from the airport extending from the 7.5-mile radius to 10.7 miles south of the airport; (4) removes the Gipper VORTAC and associated extensions as they are no longer required; (5) updates the name of the localizer from South Bend ILS Localizer to South Bend INTL: RWY 27L-LOC to coincide with the FAA's aeronautical database; and (6) removes the Misha Outer Marker from the airspace legal description header as it is no longer required.

And for the Jerry Tyler Memorial Airport, Niles, MI, Class E airspace extending upward from 700 ft. above the surface, contained within the South Bend, IN, airspace legal description, this action: (1) increases the radius from 6.4 miles to 6.9 miles; and (2) removes the city associated with the airport in the airspace legal description header to comply with changes to FAA Order JO 7400.2R.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures,” Paragraph B-2.5(a). This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

6002 Class E Airspace Areas Designated as Surface Areas.

* * * * *

AGL IN E2 South Bend, IN [Amended]

South Bend International Airport, IN

(Lat. 41°42′30″ N, long. 086°19′02″ W)

Chain-O-Lakes Airport, IN

(Lat. 41°39′45″ N, long. 086°21′15″ W)

Within a 5-mile radius of the South Bend International Airport, excluding that airspace within a 1-mile radius of the Chain-O-Lakes Airport and excluding that airspace 1 mile either side of the 214° bearing from the Chain-O-Lakes Airport to the 5-mile radius of the South Bend International Airport. This Class E airspace area is effective during the specific dates and times established in advance by a Notice to Airmen. The effective dates and times will thereafter be continuously published in the Chart Supplement.

* * * * *

6003 Class E Airspace Areas Designated as an Extension.

* * * * *

AGL IN E3 South Bend, IN [Establish]

South Bend International Airport, IN

(Lat. 41°42′30″ N, long. 086°19′02″ W)

That airspace extending upward from the surface within 2 miles each side of the 179° bearing from the airport extending from the 5-mile radius of the airport to 9.7 miles south of the airport. This Class E airspace area is effective during the specific dates and times established in advance by a Notice to Airmen. The effective dates and times will thereafter be continuously published in the Chart Supplement.

* * * * *

6004 Class E Airspace Areas Designated as an Extension to a Class D or Class E Surface Area.

* * * * *

AGL IN E4 South Bend, IN [Establish]

South Bend International Airport, IN

(Lat. 41°42′30″ N, long. 086°19′02″ W)

That airspace extending upward from the surface within 2 miles each side of the 179° bearing from the airport extending from the 5-mile radius of the airport to 9.7 miles south of the airport. This Class E airspace area is effective during the specific dates and times established in advance by a Notice to Airmen. The effective dates and times will thereafter be continuously published in the Chart Supplement.

* * * * *

Paragraph 6005 Class E Airspace Areas Extending Upward From 700 Feet or More Above the Surface of the Earth.

* * * * *

AGL IN E5 South Bend, IN [Amended]

South Bend International Airport, IN

(Lat. 41°42′30″ N, long. 086°19′02″ W)

South Bend INTL: RWY 27L-LOC

(Lat. 41°42′15″ N, long. 086°19′59″ W)

Jerry Tyler Memorial Airport, IN

(Lat. 41°50′09″ N, long. 086°13′31″ W)

That airspace extending upward from 700 feet above the surface within a 7.5-mile radius of South Bend International Airport; and within 4 miles south and 8 miles north of the South Bend INTL: RWY 27L-LOC extending from 7.5-mile radius of the South Bend International Airport to 10.5 miles east of the South Bend International Airport; and within 2 miles each side of the 179° bearing from the South Bend International Airport extending from the 7.5-mile radius of the South Bend International Airport to 10.7 miles south of the South Bend International Airport; and within a 6.9-mile radius of Jerry Tyler Memorial Airport.

* * * * *

Issued in Fort Worth, Texas, on February 4, 2026.
Courtney E. Johns,
Acting Manager, Operations Support Group, ATO Central Service Center.

[FR Doc. 2026-02320 Filed 2-5-26; 8:45 am]

BILLING CODE 4910-13-P